FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: FEMA makes the final determinations listed below of the final determinations of modified BFEs for each community listed. These modified elevations have been published in newspapers of local circulation and ninety (90) days have elapsed since that publication. The Administrator, Federal Insurance and Mitigation Administration, has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community number
Illinois:
St. Clair (00-05-315P) (FEMA Docket No. 7610) | City of Belleville | January 8, 2002; January 15, 2002; Belleville News-Democrat | The Honorable Mark A. Kern, Mayor, City of Belleville, 101 South Illinois Street, Democrat Belleville, Illinois 62220 | April 16, 2002 | 170618
Cook (02-05-0239P) (FEMA Docket No. 7610) | Unincorporated Areas | January 17, 2002; January 24, 2002; Northbrook Star | Mr. John H. Stroger, Jr., President, Cook County Board of Commissioners, 118 North Clark Street, Room 537, Northbrook, Illinois 60602 | December 20, 2001 | 170054
Cook (02-05-1825P) (FEMA Docket No. 7610) | Unincorporated Areas | March 20, 2002; March 27, 2002; The Chicago Tribune | Mr. John H. Stroger, Jr., President, Cook County Board of Commissioners, 118 North Clark Street, Room 537, Chicago, Illinois 60602 | June 26, 2002 | 170054
Cook (02-05-0239P) (FEMA Docket No. 7610) | City of Northbrook | January 17, 2002; January 24, 2002; Northbrook Star | Mr. Mark W. Damisch, President, Village of Northbrook, 1225 Cedar Lane, Northbrook, Illinois 60062-4582 | December 20, 2001 | 170132
Cook (02-05-1825P) (FEMA Docket No. 7610) | City of Oak Forest | March 20, 2002; March 27, 2002; The Chicago Tribune | The Honorable Patrick Gordon, Mayor, City of Oak Forest, 15440 South Central Avenue Oak Forest, Illinois 60452 | June 26, 2002 | 170136
Cook (01-05-3763P) (FEMA Docket No. 7612) | Village of Palos Park | May 1, 2002; May 8, 2002; Daily Southtown | The Honorable Jean Moran, Mayor, Village of Palos Park, 8999 West 123rd Street, Palos Park, Illinois 60464 | August 7, 2002 | 170144
Will (01-05-1864P) (FEMA Docket No. 7610) | Village of Plainfield | February 20, 2002; February 27, 2002; The Enterprise | Mr. Richard Rock, President, Village of Plainfield, 530 West Lockport Street Suite 206, Plainfield, Illinois 60544 | May 29, 2002 | 170771
Indiana:
Dearborn (00-05-285P) (FEMA Docket No. 7610) | Town of Greendale | February 7, 2002; February 14, 2002; The Dearborn County Register | The Honorable Doug Hedrick, Mayor, Town of Greendale, 510 Ridge Avenue, Greendale, Indiana 47025 | January 9, 2002 | 180040
Johnson (02-05-0605P) (FEMA Docket No. 7610) | City of Greenwood | April 3, 2002; April 10, 2002; Greenwood and Southside Challenger | The Hon. Charles Henderson, Mayor, City of Greenwood, 2 North Madison Avenue, Greenwood, Indiana 46142 | April 22, 2002 | 180115
Dearborn (00-05-285P) (FEMA Docket No. 7610) | City of Lawrenceburg | February 7, 2002; February 14, 2002; The Dearborn County Register | The Honorable Paul Tremain, Mayor, City of Lawrenceburg, 405 Main Street, Lawrenceburg, Indiana 47025 | January 9, 2002 | 180041
Kansas:
Sedgwick (00-07-493P) (FEMA Docket No. 7614) | City of Wichita | May 24, 2001; May 31, 2001; Wichita Eagle | The Honorable Bob Knight, Mayor, City of Wichita, 455 North Main Street, 5th Floor, Wichita, Kansas 67202 | August 31, 2001 | 200328
Michigan:
Oakland (01-05-214P) (FEMA Docket No. 7610) | Village of Lake Orion | April 3, 2002; April 10, 2002; The Lake Orion Review | Ms. JoAnn Van Tassel, Manager, Village of Lake Orion, 37 East Flint Street, Lake Orion, Michigan 48362 | April 5, 2002 | 260588
Macomb (01-05-229P) (FEMA Docket No. 7610) | City of Warren | March 22, 2002; March 29, 2002; The Macomb Daily | The Hon. Mark Steenbergh, Mayor, City of Warren, Warren Municipal Building, 29500 Van Dyke Avenue, Warren, Michigan 48093 | June 28, 2002 | 260129
Macomb (02-05-0025P) (FEMA Docket No. 7610) | Township of Washington | February 8, 2002; February 15, 2002; The Macomb Daily | Mr. Gary Kirsh, Supervisor, Township of Washington, P.O. Box 94067, Washington, Michigan 48094 | December 21, 2001 | 260447
Minnesota:
Anoka (01-05-2586P) (FEMA Docket No. 7610) | City of Coon Rapids | February 15, 2002; February 22, 2002; The Herald | The Hon. Ilona McCauley, Mayor, City of Coon Rapids, 11155 Robinson Drive Coon Rapids, Minnesota 55433 | February 7, 2002 | 270011
Rice (02-05-0959P) (FEMA Docket No. 7610) | City of Dundas | January 23, 2002; January 30, 2002; Northfield News | The Hon. Myron Malecha, Mayor, City of Dundas, 216 Railway Street North Dundas, Minnesota 55109 | December 18, 2001 | 270403
Missouri:
Ste. Genevieve (01-07-425P) (FEMA Docket No. 7610) | City of Ste. Genevieve | February 20, 2002; February 27, 2002; Ste. Genevieve Herald | The Hon. Kathleen Waltz, Mayor, City of Ste. Genevieve, 165 South Fourth Street, Ste. Genevieve, Missouri 63670 | February 8, 2002 | 290325
Ste. Genevieve (01-07-425P) (FEMA Docket No. 7610) | Unincorporated Areas | February 20, 2002; February 27, 2002; Ste. Genevieve Herald | Mr. Dennis Huck, County Commissioner, Ste. Genevieve County, 165 South Fourth Street, Ste. Genevieve, Missouri 63670 | February 8, 2002 | 290833
New Mexico: Bernalillo (01-06-880P) (FEMA Docket No. 7610) | Unincorporated Areas | February 21, 2002; February 28, 2002; Albuquerque Journal | Mr. Tom Rutherford, Chairman, Bernalillo County, 2400 Broadway, S.E., Albuquerque, New Mexico 87102 | January 29, 2002 | 350001
Ohio:
Lorain (01-05-665P) (FEMA Docket No. 7610) | City of Avon | March 22, 2002; March 29, 2002; The Morning Journal | The Honorable James Smith, Mayor, City of Avon, 36080 Chester Road, Avon, Ohio 44011 | June 28, 2002 | 390348
Montgomery (01-05-740P) (FEMA Docket No. 7610) | City of Centerville | March 15, 2002; March 22, 2002; Dayton Daily News | The Honorable Sally D. Beals, Mayor, City of Centerville, 7875 Stonehouse Court, Centerville, Ohio 45459 | June 21, 2002 | 390408
Delaware (01-05-1490P) (FEMA Docket No. 7610) | Unicorporated Areas | March 6, 2002; March 13, 2002; Westerville News and Public Opinion | Mr. James Ward, President, Delaware County, Board of Commissioners, 101 North Sandusky Street, Delaware, Ohio 43105 | June 12, 2002 | 390146
Franklin, (01-05-1490P) (FEMA Docket No. 7610) | Unincorporated Areas | March 6, 2002; March 13, 2002; Westerville News and Public Opinion | Mr. Dewey R. Stokes, President, Franklin County Board of Commissioners, 373 South High Street, 26th Floor, Columbus, Ohio 43215 | June 12, 2002 | 390167
Franklin (00-05-311P) (FEMA Docket No. 7610) | City of Grove City | April 17, 2002; April 24, 2002; Grove City News | The Hon. Cheryl L. Grossman, Mayor, City of Grove City, P.O. Box 427, Grove City, Ohio 43123 | July 24, 2002 | 390173
Lucas (01-05-2963P) (FEMA Docket No. 7610) | Unincorporated Areas | February 19, 2002; February 26, 2002; Farmland News | Ms. Sandy Isenberg, President, Lucas County, Board of Commissioners, One Government Center, Suite 800, Toledo, Ohio 43604 | May 28, 2002 | 390359
Franklin and Delaware (01-05-1490P) (FEMA Docket No. 7610) | City of Westerville | March 6, 2002; March 13, 2002; Westerville News and Public Opinion | The Hon. Stewart Flaherty, Mayor, City of Westerville, 21 South State Street, Westerville, Ohio 43081 | June 12, 2002 | 390179
Delaware and Franklin (02-05-2128P) (FEMA Docket No. 7610) | City of Westerville | April 10, 2002; April 17, 2002; Westerville News and Public Opinion | The Hon. Stewart Flaherty, Mayor, City of Westerville, 21 South State Street, Westerville, Ohio 43081 | April 8, 2002 | 390179
Oklahoma:
Oklahoma (00-06-1829P) (FEMA Docket No. 7610) | City of Edmond | March 22, 2002; March 29, 2002; The Edmond Sun | The Honorable Saundra Naifeh, Mayor, City of Edmond, P.O. Box 2970, Edmond, Oklahoma 73083 | February 28, 2002 | 400252
Tulsa (01-06-1178P) (FEMA Docket No. 7610) | Unincorporated Areas | March 7, 2002; March 14, 2002; Tulsa World | The Hon. Wilbert E. Colins, Chairman, Tulsa County, Board of Commissioners, 500 South Denver, Tulsa, Oklahoma 74103 | June 13, 2002 | 400462
Texas:
Tarrant (01-06-780P) (FEMA Docket No. 7610) | City of Arlington | April 10, 2002; April 17, 2002; The Arlington Morning News | The Honorable Elzie Odom, Mayor, City of Arlington, 101 West Abram Street, Arlington, Texas 76004 | July 16, 2002 | 485454
Travis (01-06-674P) (FEMA Docket No. 7610) | City of Austin | March 5, 2002; March 12, 2002; Austin American Statesman | The Honorable Gus Gracia, Mayor, City of Austin, 124 West 8th Street, Austin, Texas 78701 | January 18, 2002 | 480624
Bexar (01-06-543P) (FEMA Docket No. 7610) | Unincorporated Areas | January 17, 2002; January 24, 2002; San Antonio Express News | The Hon. Cyndi T. Krier, Judge, Bexar County, 100 Dolorosa, Suite 101, San Antonio, Texas 78205 | April 25, 2002 | 480035
Bexar (01-06-1714P) | Unincorporated Areas | February 21, 2002; February 28, 2002; San Antonio Express News | The Hon. Nelson W. Wolff, Judge, Bexar County, 100 Dolorosa, Suite 101, San Antonio, Texas 78205 | May 30, 2002 | 480035
Johnson (00-06-1649P) (FEMA Docket No. 7610) | City of Burleson | February 20, 2002; February 27, 2002; The Burleson Star | The Honorable Byron Black, Mayor, City of Burleson, 141 West Renfro, Burleson, Texas 76028 | May 29, 2002 | 485459
Montgomery (01-06-225P) (FEMA Docket No. 7610) | City of Conroe | February 19, 2002; February 26, 2002; The Courier | The Honorable Carter Moore, Mayor, City of Conroe, P.O. Box 3066, Conroe, Texas 77305 | May 28, 2002 | 480484
Denton (00-06-1241P) (FEMA Docket No. 7610) | Town of Corinth | April 3, 2002; April 10, 2002; Lake Cities Sun Paper | The Hon. Shirley Spellerberg, Mayor, Town of Corinth, 2003 South Corinth, Corinth, Texas 76205 | July 10, 2002 | 481143
Dallas (01-06-1501P) (FEMA Docket No. 7610) | City of Dallas | January 24, 2002; January 31, 2002; Dallas Morning News | The Honorable Laura Miller, Mayor, City of Dallas, 1500 Marilla Street, City Hall, Dallas, Texas 75201 | May 1, 2002 | 480171
Tarrant (02-06-373P) (FEMA Docket No. 7610) | City of Fort Worth | April 3, 2002; April 10, 2002; Fort Worth Star-Telegram | The Honorable Kenneth Barr, Mayor, City of Fort Worth, 1000 Throckmorton Street, Fort Worth, Texas 76102 | July 10, 2002 | 480596
Williamson (01-06-213P) (FEMA Docket No. 7610) | City of Hutto | February 21, 2002; February 28, 2002; Hutto Herald | The Honorable Glen Pierce, Mayor, City of Hutto, P.O. Box 2803, Hutto, Texas 78634 | May 30, 2002 | 481047
Dallas (01-06-1643P) (FEMA Docket No. 7610) | City of Irving | April 4, 2002; April 11, 2002; The Irving Morning News | The Honorable Joe H. Putnam, Mayor, City of Irving, 825 West Irving Boulevard, Irving, Texas 75060 | March 8, 2002 | 480180
Midland (01-06-1743P) (FEMA Docket No. 7610) | City of Midland | May 2, 2002; May 9, 2002; Midland Reporter-Telegram | The Hon. Michael J. Canon, Mayor, City of Midland, City Hall, 300 North Loraine, Midland, Texas 79701 | August 8, 2002 | 480477
Montgomery (01-06-599P) (FEMA Docket No. 7610) | Unincorporated Areas | March 6, 2002; March 13, 2002; The Courier | The Honorable Alan B. Sadler, Judge, Montgomery County, 301 North Thompson Street, Suite 210, Conroe, Texas 77301 | June 12, 2002 | 480483
Montgomery (01-06-1170P) (FEMA Docket No. 7610) | Unincorporated Areas | March 2, 2002; March 27, 2002; The Courier | The Honorable Alan B. Sadler, Judge, Montgomery County, 301 North Thompson Street, Suite 210, Conroe, Texas 77301 | February 26, 2002 | 480483
Montgomery (01-06-1145P) (FEMA Docket No. 7610) | Unincorporated Areas | March 21, 2002; March 28, 2002; The Courier | The Honorable Alan B. Sadler, Judge, Montgomery County, 301 North Thompson Street, Suite 210, Conroe, Texas 77301 | March 1, 2002 | 480483
Tarrant (01-06-579P) (FEMA Docket No. 7610) | City of North Richland Hills | January 8, 2002; January 15, 2002; Fort Worth Star Telegram | The Honorable Charles Scoma, Mayor, City of N. Richland Hills, P.O. Box 820609, North Richland Hills, Texas 76182 | December 19, 2002 | 480607
Tarrant (01-06-1991) (FEMA Docket No. 7610) | City of North Richland Hills | March 6, 2002; March 11, 2002; Fort Worth Star Telegram | The Honorable Oscar Trevino, Mayor, City of N. Richland Hills, P.O. Box 820609, North Richland Hills, Texas 76182 | January 23, 2002 | 480607
Montgomery (01-06-599P) (FEMA Docket No. 7610) | City of Oak Ridge North | March 6, 2002; March 13, 2002; The Courier | The Honorable Joe Michels, Mayor, City of Oak Ridge North, City Hall, 2742 Robinson Road, Oak Ridge North, Texas 77385 | June 12, 2002 | 481560
Collin (00-06-1193P) (FEMA Docket No. 7610) | City of Plano | February 20, 2002; February 27, 2002; Plano Star Courier | The Honorable Pat Evans, Mayor, City of Plano, P.O. Box 860358, Plano, Texas 75086 | May 29, 2002 | 480140
Rockwall (01-06-355P) (FEMA Docket No. 7610) | City of Rockwall | March 22, 2002; March 29, 2002; The Rockwall/Rowlett Morning News | The Honorable Ken Jones, Mayor, City of Rockwall, 385 S. Goliad Street, Rockwall, Texas 75087 | March 1, 2002 | 480547
Tarrant (02-06-373P) (FEMA Docket No. 7610) | Unincorporated Areas | April 3, 2002; April 10, 2002; Fort Worth Strar Telegram | The Honorable Tom Vandergriff, Judge, Tarrant County, 100 East Weatherford Street, Forth Worth, Texas 76196 | July 10, 2002 | 4800582

(Catalog of Federal Domestic Assistance No. 83.100, “Flood Insurance”)
Dated: September 23, 2002.
Anthony S. Lowe,
Administrator, Federal Insurance and Mitigation Administration.

[FR Doc. 02-26215 Filed 10-15-02; 8:45 am]

BILLING CODE 6718-04-P